DEPARTMENT OF STATE

[Public Notice: 10318]

Renewal of Cultural Property Advisory Committee Charter

SUMMARY: The Charter of the Department of State's Cultural Property Advisory Committee has been renewed for an additional two years.

The Charter of the Cultural Property Advisory Committee has been renewed for a two-year period. The Committee was established by the Convention on Cultural Property Implementation Act of 1983. The Committee reviews requests from other States Parties to the 1970 UNESCO Convention on the Means of Prohibiting and Preventing the Illicit Import, Export and Transfer of Ownership of Cultural Property seeking U.S. import restrictions on archaeological or ethnological material. The Committee makes findings and recommendations to the President's designee who, on behalf of the President, determines whether to impose import restrictions. The membership of the Committee consists of private sector experts in archaeology, anthropology, or ethnology; experts in the international sale of cultural property; and representatives of museums and of the general public.

FOR FURTHER INFORMATION CONTACT: Cultural Heritage Center, U.S. Department of State, Bureau of Educational and Cultural Affairs, 2200 C Street NW, Washington, DC 20522. Telephone: (202) 632-6301; Fax: (202) 632-6300.

Andrew C. Cohen,
Executive Director, Cultural Property Advisory Committee, Department of State.

[FR Doc. 2018-06656 Filed 3-30-18; 8:45 am]

BILLING CODE 4710-05-P